DEPARTMENT OF TRANSPORTATION

Maritime Administration

[Docket No. MARAD-2023-0134]

Request for Comments on the Approval of a New Information Collection: Building American Production Capacity for Electric Port Equipment and Other Port Infrastructure Items

AGENCY: Maritime Administration, DOT.

ACTION: Notice.

SUMMARY: The Maritime Administration (MARAD) invites public comments on our intention to request the Office of Management and Budget (OMB) approval of a new information collection. The proposed collection OMB 2133-NEW (Building American Production Capacity for Electric Port Equipment and Other Port Infrastructure Items) will be used to identify the demand for electric-powered port equipment and other port infrastructure items supported by a pooled procurement. We are required to publish this notice in the Federal Register by the Paperwork Reduction Act of 1995. A 60-day Federal Register Notice soliciting comments on this information collection was published on March 2, 2023.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Kirk Claussen, (202) 366-5660, Office of Ports & Waterways, U.S. Department of Transportation, 1200 New Jersey Avenue SE, Washington, DC 20590, Email at Kirk.Claussen@dot.gov.

SUPPLEMENTARY INFORMATION:

Title: Building American Production Capacity for Electric Port Equipment and Other Port Infrastructure Items.

OMB Control Number: 2133-NEW.

Type of Request: New Information Collection.

Abstract: The Building American Production Capacity for Electric Port Equipment and Other Port Infrastructure Items collection is essential to identify the demand for electrically powered port equipment and infrastructure items supported by pooled procurement. This initiative, which is comprised of an online survey and interview with diverse American port stakeholders, will also support Buy American/Buy America objectives and American manufacturers of electrically powered port equipment. Survey responses will also help to identify a suitable port through which the procurement of electrically powered port equipment and infrastructure can be initiated. This survey is being conducted through a cooperative agreement between the Maritime Administration (MARAD) and the American Association of Port Authorities (AAPA).

Currently, many U.S. port authorities and marine terminal operators purchase diesel-powered dockside equipment, necessary for loading, unloading, and organizing shipping containers. Much of this equipment is foreign made, in short supply, and increases exposure to dangerous emissions that contribute to climate change. The recent passage of the Infrastructure Investment and Jobs Act (IIJA), commonly referred to as the Bipartisan Infrastructure Bill, which was signed into law on November 15, 2021, provides a federal grant stream that will modernize U.S. ports infrastructure over the next five years. Specifically, this Bill assures resources for the development of a domestic capacity of clean electric-powered American alternatives to replace and reduce emissions by predominantly foreign-made diesel port equipment.

Respondents: U.S. port authorities, marine terminal operators, and port equipment manufacturers.

Affected Public: Local and state governments and businesses.

Estimated Number of Respondents: 200.

Estimated Number of Responses: 200.

Estimated Hours per Response: 2.25 hours.

Annual Estimated Total Annual Burden Hours: 138.

Frequency of Response: Once.

(Authority: The Paperwork Reduction Act of 1995; 44 U.S.C. chapter 35, as amended; and 49 CFR 1.49.)

By Order of the Maritime Administrator.
T. Mitchell Hudson, Jr.,
Secretary, Maritime Administration.

[FR Doc. 2023-12219 Filed 6-7-23; 8:45 am]

BILLING CODE 4910-81-P